DEPARTMENT OF HOMELAND SECURITY

Coast Guard

33 CFR Part 147

[Docket No. USCG-2023-0277]

RIN 1625-AA00

Safety Zone; Vineyard Wind 1 Wind Farm Project Area, Outer Continental Shelf, Lease OCS-A 0501, Offshore Massachusetts, Atlantic Ocean

AGENCY: Coast Guard, DHS.

ACTION: Temporary interim rule; correction.

SUMMARY: The Coast Guard published a temporary interim rule in the Federal Register on May 2, 2024, concerning several safety zones offshore of Martha's Vineyard. That document contained an incorrect phone number. This document corrects that phone number.

DATES: This correction is effective May 14, 2024. Comments on the temporary interim rule (89 FR 35709) are still due on or before July 31, 2024.

FOR FURTHER INFORMATION CONTACT: For information about this document call or email Mr. Craig Lapiejko, Waterways Management, at Coast Guard First District, telephone 866-842-1560, email craig.d.lapiejko@uscg.mil.

SUPPLEMENTARY INFORMATION:

Correction

In the Federal Register of May 2, 2024, in FR Doc.2024-09538, on page 89 FR 35709, in the first column, in the FOR FURTHER INFORMATION CONTACT SECTION, the phone number, “617-603-8592”, is corrected to read: “866-842-1560”. This was done to correct an improperly listed phone number and ensure that interested persons can get in touch with our point of contact.

Dated: May 8, 2024.
James E. McLeod,
Acting Office Chief, Office of Regulations and Administrative Law.

[FR Doc. 2024-10481 Filed 5-13-24; 8:45 am]

BILLING CODE 9110-04-P